DEPARTMENT OF EDUCATION

Indian Education Professional Development Grant Program

AGENCY: Office of Indian Education, Department of Education.

ACTION: Final priorities for fiscal year (FY) 2000 and subsequent fiscal years.

SUMMARY: The Secretary announces final funding priorities under the Indian Education Professional Development Grant program. The Secretary may use these priorities for competitions in FY 2000 and in subsequent fiscal years. The Secretary takes this action to support training opportunities to increase the number of Indian teachers, education administrators, and personnel in other fields.

EFFECTIVE DATE: These priorities take effect May 30, 2000.

FOR FURTHER INFORMATION CONTACT: Cathie Martin, Office of Indian Education, U.S. Department of Education, 400 Maryland Avenue, SW., Room 3W111, Washington, DC 20202-6335. Telephone: (202) 260-1683. Internet address: Cathie_Martin@ed.gov.

If you use a telecommunications device for the deaf (TDD) you may call the Federal Information Relay Service (FIRS) at 1-800-877-8339.

Individuals with disabilities may obtain this document in an alternative format (e.g., Braille, large print, audiotape, or computer diskette) on request to the contact person listed in the preceding paragraph.

Note: This notice of final priority does not solicit applications. A notice inviting applications under this competition is published in this edition of the Federal Register. The notice inviting applications identifies the final priority that will be implemented for the FY 2000 competition for new grants under the Professional Development program.

SUPPLEMENTARY INFORMATION:

General

The Secretary has authority to establish priorities, including absolute preferences, under section 75.105(c)(3) of the Education Department General Administrative Regulations (EDGAR). This notice contains final absolute priorities for the Professional Development program authorized by section 9122 of subpart 2 of part A, title IX of the Elementary and Secondary Education Act (ESEA) of 1965; 20 U.S.C. 7832.

The Professional Development program is a competitive grant program that supports activities to increase the number of qualified Indian individuals in professions that serve Indian people. Individuals who receive training under the Professional Development program are required to perform work that is related to the training received and that benefits Indian people, or repay all or a prorated part of the assistance received. The requirements for the payback provision (required by section 9122(h) of ESEA; 20 U.S.C. 7832(h)) are governed by 34 CFR 263. For the purposes of this program, the term ‘Indian” includes both American Indians and Alaska Natives as defined in 34 CFR 263.3 and 20 U.S.C. 9161(4) of ESEA (20 U.S.C. 7881(4)).

One component of the Professional Development program supports training for qualified Indian individuals to (1) Become teachers, administrators, teacher aides, social workers, and ancillary educational personnel; and (2) improve the skills of Indian individuals serving in these capacities. The second component of the program supports training of qualified Indian individuals in fields other than education that result in a degree at the graduate level. The final priorities support these training efforts by focusing all or a portion of available funds for new awards on projects that train Indians to become teachers and administrators, to improve the skills of individuals serving in those capacities, and to train personnel in fields other than education.

The Secretary also announces procedures for implementation of the statutory requirement to give a preference for awards under the Professional Development program to: (1) Programs that provide training to Indian individuals (section 9122(e)(2); 20 U.S.C. 7832(e)(2)) and (2) eligible Indian tribes, Indian organizations, and Indian institutions of higher education (section 9153 of ESEA; 20 U.S.C. 7873).

The Secretary announces these final priorities based on responses to the notice soliciting comments on the proposed priorities and other considerations published in the Federal Register on March 7, 2000. On an annual basis the Secretary may select, from the final priorities, the absolute priorities that will apply for that fiscal year and the amount of available program funds. Funding of a particular project depends on the availability of funds, the requirements of the final priorities selected, and the quality of the applications received.

The publication of these final priorities does not preclude the Secretary from proposing additional priorities, nor does it limit the Secretary to funding one or more these priorities, subject to meeting applicable rulemaking requirements.

Eligible Applicants

(1) Institutions of higher education, including Indian institutions of higher education;

(2) State or local educational agencies in consortium with institutions of higher education; and

(3) Indian tribes or Indian organizations in consortium with institutions of higher education.

Applications submitted by a consortium under categories (2) and (3) must meet the requirements of 34 CFR 75.127 through 75.129 of EDGAR in order to be an eligible applicant.

Analysis of Comments and Changes

In response to the Secretary's invitation to comment on the proposed priorities, the Department received a total of 12 responses from two State universities, three Indian institutions of higher education, four Indian organizations, one educational (non-Indian) organization, and two Indian tribes. Most of the comments received could be grouped in these general areas: changing the term “Indian institution of higher education” to “tribal college or university”; designating tribal colleges as the lead agency or primary applicant for consortium applications; making only tribal colleges eligible for the competitive preference points; and reducing or eliminating the minimum number of participants for the program. Technical and other minor changes, and suggested changes the Secretary is not authorized to make under the applicable statutory authority, are not addressed. A summary of the comments, and the considerations given to those comments, are as follows:

Comment—The term “Indian institution of higher education” as an eligible applicant should be changed to “tribally controlled college or university” to be consistent with the Higher Education Act and the Executive Order on Tribal Colleges and Universities. A related comment suggested that tribal colleges and universities be the only eligible applicants for this program.

Discussion—The term “Indian institution of higher education” is the language contained within the program's statute. The suggestion that eligible applicants for the program be limited to only tribal colleges and universities is too restrictive and may not meet the needs of all eligible applicants. The purpose of the program is to support training for qualified Indian individuals to become teachers, administrators, teacher aides, social workers, and ancillary educational personnel and to improve the skills of Indian individuals serving in these capacities. As the funding for this program in fiscal year 2000 is intended to train an initial cohort of 500 new teachers during the award periods of these grants, all eligible applicants should be afforded the opportunity to compete for the funding. The training provided should be locally determined to meet the needs of communities and schools so that those trained may provide services that benefit Indian people.

Change—No change in the Final Priorities is made to the listing of eligible entities, which includes an “Indian institution of higher education.”

Comment—Two types of comments were received concerning consortium applications. First, commenters suggested that all consortium applications be required to have a partnership with a tribal college or university.

Discussion—The suggestion that all consortium applications include a tribal college or university, or that the Department only give competitive preference points to consortium applications with a tribal college as the lead agency, would impose severe limitations on other eligible applicants and would not meet the legislative intent that all Indian entities be given preference in the award process. Although tribal colleges and universities are important in promoting access to higher education in Indian communities and on reservations, all eligible applicants should be afforded the opportunity to apply for the program funds based on local needs. For these reasons, eligible applicants that must apply through a consortium application should be allowed to determine locally the institution(s) of higher education they will have as partners in their project.

Change—No change is made in the Final Priorities to require all consortium applications include a tribal college or university.

Comment—With regard to the second type of comments concerning consortium applications, commenters suggested that only consortium applications in which a tribal college or university is the lead agency be eligible to receive competitive preference points.

Discussion—Although the development of a consortium should be a local decision, this program does promote the inclusion of tribal colleges and universities in the Professional Development program as consortium partners as well as innovative approaches to linking tribal colleges with early childhood, elementary, and secondary education programs. These efforts also support the objectives of the Executive order on Tribal Colleges and Universities (Executive Order 13021 of October 19, 1996).

Change—Therefore, to be responsive to the comments requesting preference for tribal colleges and universities, and to further the efforts of the Executive order, a third competitive preference is added that will award five additional points to consortium applications that include, and designate as the fiscal agent, a tribal college or university. To avoid awarding (because of the addition of Priority 3) a disproportionate number of total competitive priority points in relationship to the total number of points available under the program, we have reduced the number of competitive priority points for Priority 2 from 10 to 5.

Comment—There were two types of comments concerning the project participants and their training: (1) The minimum number of participants (which had been identified as 25) should be lowered or eliminated; and (2) to achieve the number of participants required, that projects be allowed to include current teachers who are seeking certification in the subject area(s) they are teaching or in new subject areas (as in the case of retraining teachers to meet teacher shortages in specific instructional areas).

Discussion—(1) As it was the consensus of all parties commenting on this issue that a minimum of 25 participants would be difficult to achieve, the Final Priorities have been changed to eliminate a minimum number of participants to be served. However, it should be noted that, according to the program's selection criteria for evaluating applications, the Secretary will consider factors such as reasonableness of costs in relation to: the number of persons to be served and the anticipated results and benefits; and the objectives, design, and potential significance of the proposed project. (2) The comments were also consistent on the types of participants to be trained and the need for current teachers to be certified in the areas they are teaching, as well as the need to re-train current teachers in other areas of specialized instructional needs where shortages exist.

Change—The Final Priorities have been revised to allow applicants to provide pre-service training to teachers that will enable them to meet state certification requirements, that require at least a bachelor's degree, in current or new teaching assignments when a teacher shortage exists in specialized areas, within a two-year training period.

Comment—Some comments expressed concern that a two-year program to complete a bachelor's degree was not an adequate amount of time and suggested the language be changed to allow a grant program of four or five years.

Discussion—A four-or five-year grant program that allows students to obtain a bachelor's degree (from initial entry to completion) does not guarantee student completion of a degree. The following factors were taken into consideration when the two-year time period for completion of bachelor's degree was proposed:

(1) Students are more prone to leave postsecondary institutions before completing their first two years of college. Thus, students recruited as participants in the program in their junior or senior year of college are more likely to obtain a degree and complete the program.

(2) The first two years of college generally involve general education requirements, and majors are not usually declared until the end of the second year of study or at the beginning of the third year. If students declare a major that is not related to the field of education, they would then become ineligible for the professional development program. The program legislation specifically requires that training to enter any field other than education must be a program that results in a graduate degree.

Change—No change in the Final Priorities has been made to extend the completion time of a bachelor's from two years to a longer period of time.

Comment—One comment raised the issue that graduates of the program are to be provided with one year of induction services while they are working in schools with predominately Indian student populations. It was suggested that the language was too restrictive and that most Indian students do not attend tribal schools, which would make the employment requirement hard to accomplish.

Discussion—Participants of the program are required to complete a payback for the training they receive, either in service that benefits Indian people and is related to the training received or through a cash payback. The induction services are intended to provide a support system for individuals entering new professional fields and to aid graduates in that transition process. It is anticipated that individuals completing a service payback will be employed in a school that has a large Indian student population. It was not the intent in using the word “predominately” that the student population of a school in which a new teacher is working be interpreted to mean only Indian students.

Change—To clarify the language, the term “predominately” has been changed to “significant” in the Final Priorities.

Comment—One comment suggested that the induction services for the component of in-service training be eliminated.

Discussion—The suggestion has been adopted.

Change—The Final Priorities have been changed; programs providing in-service training are not required to provide induction services.

Absolute Priority

Under section 34 CFR 75.105 of EDGAR, the Secretary gives an absolute preference to applications that meet one of the priorities selected for a fiscal year. The Secretary reserves all or a portion of the funds available for new awards under the Professional Development program to fund only those applications that meet one of these absolute priorities:

(1) Pre-Service Training for Teachers

Provide support and training to Indian individuals to complete a pre-service education program that:

(a) Enables individuals to meet the requirements for full state certification or licensure as a teacher through:

(i) Training that leads to a bachelor's degree in education within a two-year period; or

(ii) Training in a current or new specialized teaching assignment, that requires at least a bachelor's degree, in which a teacher shortage exists.

(iii) Provides graduates of the pre-service program with one year of induction services while they are working in schools with significant Indian student populations.

(2) In-Service Training for Teachers

Provide professional development activities, over a two-year period, to train existing teachers of Indian students provided that such activities allow participants to meet the requirements for continued state certification or licensure in areas such as:

(a) Standards and assessments;

(b) Integrating reliable, research-based teaching methods and technology into the curriculum;

(c) Subject content area specialization such as reading, math, science or technology; or

(d) Specializations in teaching culturally and linguistically unique Indian student populations.

(3) Pre-Service and In-Service Training for Teachers

Provide support and training to Indian individuals to complete:

(a) A pre-service education program that:

(1) Enables individuals to meet the requirements for full state certification or licensure as a teacher through:

(i) Training that leads to a bachelor's degree in education within a two-year period; or

(ii) Training in a current or new specialized teaching assignment, that requires at least a bachelor's degree, in which a teacher shortage exists.

(2) Provide graduates of the pre-service program with one year of induction services while they are working in schools with significant Indian student populations.

(b) Professional development activities, over a two-year period, to train existing teachers of Indian students, provided that such activities allow participants to meet the requirements for continued state certification or licensure, in areas such as:

(1) Standards and assessments;

(2) Integrating reliable, research-based teaching methods and technology into the curriculum;

(3) Subject content area specializations such as reading, math, science or technology; or

(4) Specializations in teaching culturally and linguistically unique Indian student populations.

(4) Pre-Service Administrator Training

(a) Provide support and training to Indian individuals to complete a master degree, within a two-year period, in education administration that allows participants to meet the requirements for state certification or licensure as an education administrator, and

(b) Provide graduates of the program with one year of induction services while they are working in schools with significant Indian student populations.

(5) In-Service Administrator Training

Provide professional development activities to existing administrators that enhance their skills and knowledge in more than one of the following areas:

(a) Standards and assessments;

(b) Integrating reliable, research-based teaching methods and technology into the curriculum;

(c) Mentoring, coaching, and evaluating the performance of teachers;

(d) Site-based management; or

(e) Reform efforts to improve teacher quality.

(6) Pre-Service and In-Service Training for Administrators:

Provide support and training to Indian individuals to complete:

(a) A pre-service program that:

(1) Results in a master degree in education administration, within a two-year period, that allows participants to meet state certification or licensure as an education administrator; and

(i) Provides graduates of the program one year of induction services while they are working in schools with significant Indian student populations.

(b) Professional development activities that enhance their skills and knowledge, as existing school administrators, in more than one of the following areas:

(i) Standards and assessments;

(ii) Integrating reliable, research-based teaching methods and technology into the curriculum;

(iii) Mentoring, coaching and evaluating the performance of teachers;

(iv) Site-based management; or

(v) Reform efforts to improve teacher quality.

(7) Training in Fields Other Than Education

(a) Provide support and training to Indian individuals to complete a master or doctoral degree in a field other than education, or a related field, within a two-year period, and

(b) Provide graduates of the program with one-year of induction services while they are employed in positions relating to the training received and that benefits Indians.

Applications meeting one of the absolute priorities may offer professional development activities that include, but are not limited to, continuing programs, symposia, workshops, conferences, and direct financial support.

Induction Services

Induction services must be provided after the participant has completed his/her pre-service training program. The induction services shall include the following activities, at a minimum:

(1) Mentoring, coaching, and consultation services for the participant;

(2) Participant access to research materials and information on teaching and learning or, for non-education fields of study, subject matter related to the participant's field of study;

(3) Periodic assessment of, and feedback sessions on, participant performance in coordination with the participant's supervisor; and

(4) Periodic meetings or seminars for participants to enhance collaboration, feedback, and peer networking and support.

Projects with a pre-service component will be awarded for a three-year project period. The pre-service training is to be offered only during the first two years of the award, with the final 12 months of the project period consisting only of induction services for participants. The notice inviting applications published in the Federal Register for this competition will identify any annual funding limitations for the program.

Applications submitted by a consortium must identify the party or entity within the consortium that will be responsible for delivery and oversight of the induction services.

We may select more than one absolute priority for this program in any given fiscal year.

Competitive Preference

The Secretary also announces procedures for implementing the statutory requirement to give a preference to eligible Indian tribes, Indian organizations and Indian institutions of higher education for grants awarded under the Professional Development program (section 9153 of ESEA; 20 U.S.C. 7873 and 20 U.S.C. 1221e-3).

Under 34 CFR 75.105(c)(2)(i) of EDGAR and sections 9122 and 9153 of ESEA (20 U.S.C. 7832 and 7873) and section 410 of the General Education Provisions Act (20 U.S.C. 1221e-3), the Secretary gives preference to applications that meet the following competitive priorities. The total number of points the Secretary proposes to award to an application that meets a competitive priority is indicated in parenthesis next to the title of the priority. These points are in addition to any points the application earns under the selection criteria for the program.

Competitive Priority 1—Preference for Training Indian Individuals (5 Points)

Background

Grants under this program may be used to provide support and training for Indian individuals to increase the number of qualified Indian individuals in professions that serve Indian people. Activities may include, but are not limited to, continuing programs, symposia, workshops, conferences, and direct financial support.

Grants for training educational personnel may be for pre-service or in-service training. For individuals who are being trained to enter any field other than education, the training received must be in a program resulting in a graduate degree. In awarding grants under this program, the Secretary is required to give preference to applications describing programs that train Indian individuals.

Priority

The Secretary shall award a total of 5 points to applications submitted under the Professional Development program that include only Indian individuals as training participants.

Authority: Section 9122(e)(2); 20 U.S.C. 7832(e)(2).

Competitive Priority 2—Preference for Indian Applicants (5 Points)

Background

An eligible entity for this program includes an institution of higher education, including an Indian institution of higher education; a State or local educational agency, in consortium with an institution of higher education; or an Indian tribe or organization, in consortium with an institution of higher education. In making grants under this program, preference is given to applications submitted by Indian tribes, Indian organizations, and Indian institutions of higher education, including a consortium of any of these entities with other eligible entities.

Priority

The Secretary shall award a total of 5 points to applications submitted by Indian tribes, Indian organizations, and Indian institutions of higher education that are eligible to participate in the Professional Development program. A consortium application of eligible entities that meets the requirements of 34 CFR 75.127-.129 of EDGAR and includes an Indian tribe, Indian organization or Indian institution of higher education shall be considered eligible to receive the 5 priority points.

Authority: Section 9153; 20 U.S.C. 7873.

Competitive Priority 3—Preference for Consortia Applications in Which a Tribal College or University is the Fiscal Agent (5 Points)

Background

Applications for this program may be submitted by a consortium of eligible applicants that include a State or local educational agency, or an Indian tribe or organization, in consortium with an institution of higher education, including an Indian institution of higher education. As Indian institutions of higher education are generally defined as “tribal colleges or universities,” this program does promote the inclusion of tribal colleges and universities in the Professional Development program as consortium partners and exploring innovative approaches to better link tribal colleges with early childhood, elementary, and secondary education programs. These efforts also support the objectives of the Executive order on Tribal Colleges and Universities (Executive Order 13021 of October 19, 1996). In order to promote the inclusion of tribal colleges and universities in the Professional Development program, a competitive preference will be given to consortium applications that include a tribal college or university and designate that tribal college or university as the fiscal agent for the application.

Priority

The Secretary shall award a total of 5 points to applications submitted by a consortium of eligible applicants that include a tribal college or university and which designate that tribal college or university as the fiscal agent for the application. The consortium application of eligible entities must meet the requirements of 34 CFR 75.127-.129 of EDGAR to be considered eligible to receive the 5 priority points. These competitive preference points are in addition to the 5 competitive preference points that may be given under the Competitive Priority 2—Preference for Indian Applicants.

Tribal colleges and universities are those institutions cited in section 532 of the Equity in Educational Land-Grant Status Act of 1994 (7 U.S.C. 301 note), any other institution that qualifies for funding under the Tribally Controlled College or University Assistance Act of 1978 (25 U.S.C. 1801 et seq.), and Navajo Community College, authorized in the Navajo Community College Assistance Act of 1978, Public Law 95-471, title II (25 U.S.C. 640a note).

Authority: Section 9153; 20 U.S.C. 7873; and 20 U.S.C. 1221e-3.

Intergovernmental Review

These programs are subject to the requirements of Executive Order 12372 and the regulations in 34 CFR Part 79. However, Part 79 does not apply to assistance to federally recognized Indian tribes. The objective of the Executive order is to foster an intergovernmental partnership and a strengthened federalism by relying on processes developed by State and local governments for coordination and review of proposed Federal financial assistance. In accordance with the Order, this document is intended to provide early notification of the Department's specific plans and actions for this program.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program, which is available free at either of the previous sites. If you have questions about using the PDF, call the U.S. Government Printing Office (GPO), toll free at 1-888-293-6498; or in the Washington, DC, area at (202) 512-1530.

Note: The official version of this document is published in the Federal Register. Free Internet access to the official edition of the Federal Register and the Code of Federal Regulations is available on GPO Access at: http://www/access/gpo.gov/nara/index.html.

(Catalog of Federal Domestic Assistance Number: 84.299 Indian Education—Special Programs)

Program Authority: Section 9122; 20 U.S.C. 7832.

Dated: April 24, 2000.
Michael Cohen,
Assistant Secretary for Elementary and Secondary Education.

[FR Doc. 00-10644 Filed 4-27-00; 8:45 am]

BILLING CODE 4000-01-U